DEPARTMENT OF THE INTERIOR

Bureau of Land Management

[LLCO956000 L14200000.BJ0000]

Notice of Filing of Plats of Survey; Colorado

AGENCY: Bureau of Land Management, Interior.

ACTION: Notice of Filing of Plats of Survey; Colorado

SUMMARY: The Bureau of Land Management (BLM) Colorado State Office is publishing this notice to inform the public of the intent to officially file the survey plats listed below and afford a proper period of time to protest this action prior to the plat filing. During this time, the plats will be available for review in the BLM Colorado State Office.

DATES: Unless there are protests of this action, the filing of the plats described in this notice will happen on April 2, 2014.

ADDRESSES: BLM Colorado State Office, Cadastral Survey, 2850 Youngfield Street, Lakewood, CO 80215-7093.

FOR FURTHER INFORMATION CONTACT: Randy Bloom, Chief Cadastral Surveyor for Colorado, (303) 239-3856.

Persons who use a telecommunications device for the deaf (TDD) may call the Federal Information Relay Service (FIRS) at 1-800-877-8339 to contact the above individual during normal business hours. The FIRS is available 24 hours a day, seven days a week, to leave a message or question with the above individual. You will receive a reply during normal business hours.

SUPPLEMENTARY INFORMATION: The plat incorporating the field notes of the dependent resurvey in Township 3 South, Range 98 West, Sixth Principal Meridian, Colorado, was accepted December 23, 2013.

The plat, in 2 sheets, and field notes of the dependent resurvey and subdivision of sections 4 and 33 in Township 49 North, Range 1 West, New Mexico Principal Meridian, Colorado, were accepted on December 31, 2013.

The supplemental plat in Township 45 North, Range 11 West, New Mexico Principal Meridian, Colorado, was accepted on January 16, 2014.

The supplemental plat, in 2 sheets, of sections 9, 17, and 20, in Township 46 North, Range 10 West, New Mexico Principal Meridian, Colorado, was accepted on January 16, 2014.

The plat and field notes of the dependent resurvey and survey in Township 41 North, Range 10 East, New Mexico Principal Meridian, Colorado, were accepted on January 16, 2014.

The plat and field notes of the dependent resurvey and survey in Township 42 North, Range 10 East, New Mexico Principal Meridian, Colorado, were accepted on January 16, 2014.

The plat, in 9 sheets, of Amended Protraction Diagram No. 15 in unsurveyed: Township 11 South, Range 83 West, a portion of Township 11 South, Range 84 West, Township 11 South, Range 85 West, Township 12 South, Range 83 West, Township 12 South, Range 84 West, Township 12 South, Range 85 West, Township 12 South, Range 86 West, and a portion of Township 15 South, Range 83 West, Sixth Principal Meridian, Colorado, was accepted on January 28, 2014.

The plat, in 6 sheets, of Protraction Diagram No. 55 in unsurveyed portions of: Township 11 South, Range 82 West, Township 12 South, Range 82 West, Township 14 South, Range 82 West, Township 14 South, Range 83 West, and Township 15 South, Range 82 West, Sixth Principal Meridian, Colorado, was accepted on January 28, 2014.

Randy Bloom,
Chief Cadastral Surveyor for Colorado.

[FR Doc. 2014-04567 Filed 2-28-14; 8:45 am]

BILLING CODE 4310-JB-P